FEDERAL COMMUNICATIONS COMMISSION

47 CFR Part 73

[DA 03-1016; MB Docket No. 02-186; RM-10494]

Radio Broadcasting Services; Los Banos and Planada, CA

AGENCY: Federal Communications Commission.

ACTION: Final rule.

SUMMARY: The Audio Division, at the request of Buckley Communications, Inc., deletes Channel 284B at Los Banos, California, allots Channel 284B at Planada, California, as the community's first local FM service, and modifies the license of FM Station KHTN, Channel 284B, accordingly. Channel 284B can be allotted to Planada, California, in compliance with the Commission's minimum distance separation requirements with a site restriction of 22.2 km (13.8 miles) southwest of Planada. The coordinates for Channel 284B at Planada, California, are 37-11-29 North Latitude and 120-32-03 West Longitude.

DATES: Effective May 19, 2003.

FOR FURTHER INFORMATION CONTACT: Deborah Dupont, Media Bureau, (202) 418-2180.

SUPPLEMENTARY INFORMATION: This is a synopsis of the Commission's Report and Order, MB Docket No. 02-186, adopted April 2, 2003, and released April 4, 2003. The full text of this Commission decision is available for inspection and copying during normal business hours in the FCC Information Center, Portals II, 445 12th Street, SW., Room CY-A257, Washington, DC 20554. The complete text of this decision may also be purchased from the Commission's duplicating contractor, Qualex International, Portals II, 445 12th Street, SW., Room CY-B402, Washington, DC 20554, (202) 863-2893, facsimile (202) 863-2898, or via e-mail qualexint@aol.com.

List of Subjects in 47 CFR part 73

Radio, Radio broadcasting.

Part 73 of title 47 of the Code of Federal Regulations is amended as follows:

PART 73—RADIO BROADCAST SERVICES

1. The authority citation for Part 73 continues to read as follows:

Authority: 47 U.S.C. 154, 303, 334 and 336.

§ 73.202 [Amended]

2. Section 73.202(b), the Table of FM Allotments under California, is amended by removing Channel 284B at Los Banos and by adding Los Planada, Channel 284B.

Federal Communications Commission.
John A. Karousos,
Assistant Chief, Audio Division, Media Bureau.

[FR Doc. 03-10328 Filed 4-25-03; 8:45 am]

BILLING CODE 6712-01-P